LIBRARY OF CONGRESS

Copyright Office

[Docket No. 2025-2]

CASE Act Study

AGENCY: U.S. Copyright Office, Library of Congress.

ACTION: Notice of inquiry and request for comments.

SUMMARY: As required by the Copyright Alternative in Small-Claims Enforcement Act of 2020, the U.S. Copyright Office is initiating a study of the Copyright Claims Board. To inform the Office's study, the Office seeks comments on issues pertaining to the Copyright Claims Board, including its use and efficacy.

DATES: Written comments are due no later than 11:59 p.m. Eastern Time on May 9, 2025. Written reply comments are due no later than 11:59 p.m. Eastern Time on June 23, 2025.

ADDRESSES: The Copyright Office is using the regulations.gov system for the submission and posting of public comments in this proceeding. All comments are to be submitted electronically through regulations.gov. Specific instructions for submitting comments are available on the Copyright Office's website at http://copyright.gov/policy/CASE-study. If electronic comment submission is not feasible due to lack of access to a computer or the internet, please contact the Office using the contact information below for special instructions.

FOR FURTHER INFORMATION CONTACT: Rhea Efthimiadis, Assistant to the General Counsel, by email at meft@copyright.gov, or by telephone at 202-707-8350.

SUPPLEMENTARY INFORMATION:

I. Introduction

The Copyright Alternative in Small-Claims Enforcement Act of 2020 (the “CASE Act”) directed the Copyright Office to establish the Copyright Claims Board (the “CCB”),¹ a voluntary forum for parties seeking resolution of certain copyright disputes that have a total monetary value of $30,000 or less. The CCB “is intended to be accessible especially for pro se [i.e., self-represented] parties and those with little prior formal exposure to copyright laws who cannot otherwise afford to have their claims and defenses heard in federal court,” ² an issue analyzed in depth in the Office's 2013 policy report, Copyright Small Claims.³ Since the CCB launched operations in June 2022, claimants ⁴ have filed over 1,000 claims.⁵ The CCB has managed hundreds of proceedings and issued over 30 final determinations, the first of which was published on February 15, 2023.⁶

¹ Public Law 116-260, sec. 212, 134 Stat. 1182, 2176 (2020).

² H.R. Rep. No. 116-252, at 17 (2019).

³ U.S. Copyright Office, Copyright Small Claims (2013) (“Copyright Small Claims”), https://www.copyright.gov/docs/smallclaims/usco-smallcopyrightclaims.pdf.

⁴ Throughout this Notice, references to “claimant” may also include “counterclaimants,” as appropriate.

⁵ See Oversight Hearing Before the Subcomm. on Intellectual Prop. Comm. on the S. Comm. on the Judiciary, 119th Cong. 2 (2024), https://www.copyright.gov/laws/hearings/Testimony-Register-Shira-Perlmutter-Nov-13-Hearing-Senate-IP-Subcommittee-of-US-Copyright-Office.pdf (statement of Shira Perlmutter, Register of Copyrights and Director, U.S. Copyright Office); CCB, Key Statistics (Oct. 2024), https://ccb.gov/CCB-Statistics-and-FAQs-Oct-2024.pdf (setting forth CCB statistics for period from June 2022 to September 2024).

⁶ Final Determination, Flores v. Mitrakos, No. 22-CCB-0035 (Feb. 15, 2023), https://dockets.ccb.gov/document/download/2124 (reflecting final determination where the CCB adopted the parties' settlement terms); Final Determination, Oppenheimer v. Prutton, No. 22-CCB-0045 (Feb. 28, 2023), https://dockets.ccb.gov/document/download/2220 (reflecting first final determination not involving a settlement).

The CASE Act directs the Register of Copyrights to complete a study within three years of the CCB's first final determination, addressing five specific topics, as well as any other topics related to the CCB that the Register believes to be pertinent.⁷ This Notice initiates that study.

⁷ Public Law 116-260, sec. 212(d), 134 Stat. at 2199-2200.

II. The Office's Establishment of the CCB

The CASE Act provided that the CCB would be housed within the Copyright Office and granted the Office general authority to implement the statute's provisions through its rulemaking power.⁸ While the CASE Act detailed many of the components and procedures of the CCB, Congress delegated to the Office the specific authority to promulgate certain regulations necessary for the CCB's operations.⁹ These regulations address many aspects of the CCB's proceedings, including how parties should present their positions and how the CCB will operate.¹⁰

⁸ 17 U.S.C. 1510(a).

⁹ See, e.g., id. at 1504(g) (“The Register of Copyrights may establish regulations relating to the permitted number of proceedings each year by the same claimant under this chapter, in the interests of justice and the administration of the Copyright Claims Board.”); id. at 1505(d) (“[T]he Register of Copyrights shall establish regulations allowing the Copyright Office to make a decision, on an expedited basis, to issue or deny copyright registration for an unregistered work that is at issue before the Board.”).

¹⁰ See 87 FR 16989 (Mar. 25, 2022); 87 FR 30060 (May 17, 2022); 87 FR 20707 (Apr. 8, 2022); 87 FR 13171 (Mar. 9, 2022); 86 FR 46119 (Aug. 18, 2021).

The Office began the regulatory process by publishing a notification of inquiry in March 2021, inviting public comment on the CCB's operations.¹¹ Over the course of the following 15 months, the Office issued several proposed and final rules relating to different stages of CCB processes and procedures, such as initiating proceedings,¹² conducting active proceedings,¹³ representation of parties,¹⁴ opt-out procedures,¹⁵ and expedited copyright registration for works involved in claims before the CCB.¹⁶ The Office also hired three Copyright Claims Officers, three Copyright Claims Attorneys, and additional support staff. In collaboration with the Library of Congress, it built the CCB's electronic filing and case management system (“eCCB”), as well as setting up virtual hearing facilities, office space, a standalone website, and other operational essentials. As a result of these efforts, the CCB was able to launch on June 16, 2022, before the CASE Act's deadline.¹⁷

¹¹ 86 FR 16156 (Mar. 26, 2021).

¹² 87 FR 16989.

¹³ 87 FR 30060.

¹⁴ 87 FR 20707.

¹⁵ 87 FR 13171.

¹⁶ 86 FR 46119.

¹⁷ The CASE Act directed the CCB to begin operations within a year of its enactment, though the Register was empowered to extend that deadline by up to 180 days. Public Law 116-260, sec. 212(d), 134 Stat. at 2199.

Over the past two and a half years, the Office has issued additional rulemakings. For example, in July 2023, it published a final rule setting forth the requirements for asserting or responding to counterclaims based on an agreement pertaining to the same transaction or occurrence that is the subject of an infringement claim.¹⁸ In October 2024, it published a final rule amending the process and fee for obtaining a certified final determination from the CCB.¹⁹ The Office continues to monitor the CCB's operations and make additional regulatory adjustments as needed.

¹⁸ 88 FR 48380 (July 27, 2023).

¹⁹ 89 FR 80743 (Oct. 4, 2024).

Before identifying the current areas of inquiry, the Office offers a high-level overview of the rules and regulations governing the steps in a CCB proceeding, identifying which procedures are pursuant to regulation or are required by the statute.

A. Initiating Proceedings

To initiate a CCB proceeding, a claimant must pay an initial filing fee (a portion of the total filing fee) ²⁰ and submit its claim for a “compliance review,” i.e., a review of the claim's sufficiency under the statute and any relevant regulations.²¹ This process includes two opportunities for the claimant to cure a deficient claim. Once the claim is approved, unless the respondent waives personal service,²² the claimant must serve notice of the proceeding and a copy of the claim on the respondent.²³ This service must comply with federal law and proof of the service must be filed with the CCB.²⁴ Respondents then have sixty days from service to opt out of participating in the proceeding.²⁵ If the respondent does not submit a timely opt-out notice, the proceeding enters the active proceeding phase.²⁶

²⁰ 17 U.S.C. 1506(e)(3), 1510(c); 37 CFR 222.2(a). The $100 filing fee is paid in two installments: an initial payment of $40 and a second payment of $60. 37 CFR 222.2(a).

²¹ 17 U.S.C. 1506(f)(1); 37 CFR 224.1; H.R. Rep. No. 116-252 at 22.

²² 17 U.S.C. 1506(g)(6); 37 CFR 222.5(c).

²³ 17 U.S.C. 1506(g); 37 CFR 222.5.

²⁴ 17 U.S.C. 1506(f)(2), (g); 37 CFR 222.5(c)(3).

²⁵ 17 U.S.C. 1506(g)(1).

²⁶ Id. at 1506(i).

B. Active Proceedings

Once a proceeding enters the active phase, the claimant makes the second filing fee payment and the parties attend a pre-discovery conference and engage in discovery by exchanging certain information and documents that are relevant to the issues in the proceeding.²⁷ Discovery typically involves the use of interrogatories and requests to produce documents, using standardized CCB-provided forms.²⁸ The claimant then submits written testimony to the CCB, through a written statement, documentary evidence, and any witness statements.²⁹ The respondent is provided an opportunity to submit its own written testimony, after which the claimant may submit reply written testimony.³⁰ Pursuant to statute, CCB Officers may decide claims based only on written testimony or after an optional hearing.³¹

²⁷ Id. at 1506(n).

²⁸ 37 CFR 225.1(a).

²⁹ Id. at 222.15.

³⁰ Id.

³¹ 17 U.S.C. 1506(c)(2), 506(p); 37 CFR 222.16.

If the claimant requests a “smaller claims” proceeding when they file their claim, discovery and written statements can be more limited.³² Only one CCB Officer normally presides over a smaller claims proceeding,³³ and proceedings begin with that Officer holding a conference to determine what parts of standard discovery are necessary. The written testimony phase is handled by having the parties present their evidence, witness statements, and any arguments, followed by a “merits conference.” The presiding Officer then provides the parties with proposed findings of fact, and parties have an opportunity to respond in advance of a final determination.³⁴

³² 37 CFR 226.4.

³³ 17 U.S.C. 1506(z); 37 CFR 226.4(a).

³⁴ 37 CFR 226.4(e). At any point in the proceeding, the CCB can hold a voluntary settlement conference, which is handled by an Officer who is not the presiding Officer in that matter.

If a respondent fails to participate in an active proceeding or, without justifiable cause, fails to meet any filing deadline or other requirement set forth in an order, the CCB, after providing notice to the respondent, may initiate default determination proceedings.³⁵ As part of those proceedings, the CCB requires the claimant to submit written testimony in support of a default determination.³⁶ The CCB then considers the evidence to determine if it is sufficient to find that respondent has defaulted and whether the respondent has a meritorious defense.³⁷

³⁵ 17 U.S.C. 1506(u); 37 CFR 227.1.

³⁶ 37 CFR 227.2(a).

³⁷ Id. at 227.3(a).

C. Aiding Participants

The CCB is intended to be easier for pro se parties to use than litigating in federal court.³⁸ The Office developed the CCB's regulations, forms, processes, and procedures with this goal in mind. Since the CASE Act's passage, the Office has produced a wide array of information to educate the public, including parties to CCB proceedings, about the CCB and its operations. These materials include a dedicated CCB website (ccb.gov) which provides a user handbook, video tutorials, handouts, FAQs, and links to additional resources such as legislative history and rulemaking activity. To date, the Office has participated in many in-person and virtual events to educate the public on the CCB and to promote its use. In addition to speaking at external events, CCB staff frequently educates the public through calls, emails, and the compliance review process. The CCB's website also has a pro bono directory of law school clinics and other organizations that are available to provide free or reduced fee services.³⁹

³⁸ H.R. Rep. No. 116-252 at 17.

³⁹ See 17 U.S.C. 1506(d)(2).

III. The Current Inquiry

The CASE Act requires the Office to complete a study of the CCB's operations for Congress's review no later than three years after issuance of the first CCB final determination. In its Copyright Small Claims report, the Office recommended such a study, explaining that “[a]s with any unprecedented program, it is difficult to predict all of the contingencies that might arise once it becomes operational” and recommended that “after three years of operation, the Office should report to Congress on the efficacy of the system, including in relation to eligible works and claims, damages limitations, fee-shifting authority, identification of unknown infringers, and possible inclusion of mediation or similar [alternative dispute resolution] services.” ⁴⁰ The CASE Act identifies a number of specific subjects that should be included in the study, but grants the Register the discretion to also study “such other matters as [she] believes may be pertinent concerning the Copyright Claims Board.” ⁴¹

⁴⁰ Copyright Small Claims at 132.

⁴¹ Public Law 116-260, sec. 212(e)(6), 134 Stat. at 2199-2200.

The Register has identified additional questions to expand on and supplement the topics proscribed by Congress, listed below. The Office invites written comments on all of these subjects. Parties responding to this Notice of Inquiry need not address every subject, but the Office requests that they clearly identify and separately address each subject for which a response is submitted. This information will be used to inform the Office's report to Congress, as well as possible future regulatory work. Input is sought from a broad range of perspectives, including without limitation those parties that have used the CCB, considered using the CCB, or declined to use the CCB (including respondents who have opted out), and legal representatives of these parties, as well as commenters who provided input to the Office's prior policy study or its implementing regulations for the CCB. Input is also sought on whether potential modifications would involve changing the statute, regulations, or other procedures.

Commenters should provide the factual, legal, or policy basis for their responses and make clear whether they are submitting their comment in a personal capacity or on behalf of an organization or entity they are authorized to represent.

Topics of Inquiry

1. The use and efficacy of the CCB in resolving copyright claims, including the number of proceedings the CCB could reasonably administer.⁴²

⁴² Public Law 116-260, sec. 212(e)(1), 134 Stat. at 2199-2200.

a. Is the CCBs existence promoting settlements or other private dispute resolutions, either without bringing a claim before the CCB or after filing a claim with the CCB?

b. Is the CCB's $40 initial filing fee deterring frivolous claims without deterring meritorious claims?

c. Is the compliance review process working as intended and, if not, how should it be modified?

d. Should the CASE Act's service requirements be modified? Are there other ways to increase the ease and efficiency of perfecting service while adequately preserving respondents' due process rights?

e. Is the opt-out system working as intended and, if not, how should it be modified?

f. Are there ways to further streamline and reduce the complexity of CCB proceedings while preserving parties' rights? For example, should any statutory or regulatory time periods be adjusted to allow for faster resolutions of claims?

g. Are the scope of discovery and the use of standard discovery forms appropriately tailored to parties' needs and expectations?

h. Are the CCB's procedures governing written testimony appropriately tailored to parties' needs and expectations?

i. Are the processes and procedures for smaller claims proceedings appropriately tailored to parties' needs and expectations, compared to the processes and procedures that apply in standard proceedings?

2. Are there any aspects of other small claims tribunals, including their models or procedures, that should be considered for the CCB? ⁴³

⁴³ The Office previously considered various other tribunals' models and procedures when making recommendations in its Copyright Small Claims report. See Copyright Small Claims at 51-91.

3. Are there ways that the CCB can be made more accessible and user-friendly, including for self-represented parties? For instance, please consider:

a. Whether the CCB's forms, processes, or procedures should be adjusted; and

b. Whether the CCB should supplement its educational resources (e.g., its handbook, video tutorials, handouts, and website), either by revising existing resources or adding additional resources.

4. Are there any changes that could be made to improve the default process or reduce the incidence of defaults while adequately preserving respondents' rights and ensuring the timely processing of claims?

5. Are the statutory and regulatory rules for addressing bad-faith actors working as intended? In particular, is the one-year ban for bad-faith actors sufficient in length and should there be different sanctions for repeat offenders?

6. Are there any changes that could be made to improve the ability of claimants to enforce determinations?

7. Whether adjustments to the CCB's authority are necessary or advisable, including with respect to: (A) eligible claims, such as claims under section 1202 of title 17, United States Code (which addresses the integrity of copyright management information); (B) eligible types of works; and (C) applicable damages limitations.⁴⁴

⁴⁴ Public Law 116-260, sec. 212(e)(2), 134 Stat. at 2199-2200.

a. Are there additional claims that arise under title 17 that would be appropriate for the CCB to resolve?

b. Currently the CASE Act's damages limitations are $30,000 per proceeding and, for statutory damages, $15,000 per work infringed. Would raising or lowering these caps improve the operations of the CCB?

c. Whether greater allowance should be made to permit or limit awards of attorneys' fees and costs to prevailing parties.⁴⁵ Currently the cap for attorneys' fees and costs for bad-faith conduct under the CASE Act is $5,000; however, in extraordinary circumstances, the CCB can exceed that cap.⁴⁶ Should this cap be increased or decreased?

⁴⁵ See id.

⁴⁶ 17 U.S.C. 1506(y)(2).

8. What additional mechanisms, if any, should the CCB adopt to assist claimants in ascertaining the identity and location of unknown online infringers? ⁴⁷ Should the CCB be granted subpoena power to assist parties in identifying or locating potential respondents?

⁴⁷ Public Law 116-260, sec. 212(e)(4), 134 Stat. at 2199-2200; 17 U.S.C. 1503(a)(2)(C); see also 17 U.S.C. at 512(h).

9. Whether the CCB should be expanded to offer mediation or other nonbinding alternative dispute resolution services to interested parties.⁴⁸

⁴⁸ Public Law 116-260, sec. 212(e)(5), 134 Stat. at 2199-2200.

10. Other topics of interest to the Register:

a. The CASE Act contains a rule that treats filing certain CCB claims as equivalent to filing a court action, for the purpose of contesting a counter-notice under 512(g)(2)(C).⁴⁹ Is this rule working as intended and, if not, how should it be modified?

⁴⁹ 17 U.S.C. 1507(d); see id. at 512(g)(2)(C).

b. Do law student representatives, legal clinics, and pro bono organizations face any obstacles in representing or counseling clients before the CCB? How can the Office increase CCB participation by these groups?

c. Are there any other issues relevant to the CCB or the CASE Act that commenters wish to address, including any proposed statutory or regulatory changes?

Dated: March 5, 2025.
Suzanne Wilson,
General Counsel and Associate Register of Copyrights.

[FR Doc. 2025-03795 Filed 3-7-25; 8:45 am]

BILLING CODE 1410-30-P